DEPARTMENT OF COMMERCE

[I.D. 121304C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Sea Scallop Framework 16 Adjustment.

Form Number(s): None.

OMB Approval Number: None.

Type of Request: Emergency submission.

Burden Hours: 863.

Number of Respondents: 274.

Average Hours Per Response: VMS installation, 1 hour; VMS verification, 5 minutes; VMS daily report, 10 minutes; Notification, 5 minutes; VMS polling, 5 seconds.

Needs and Uses: Sea Scallop fishermen fishing under the general category permit wishing to fish in exemption areas are subject to certain vessel monitoring system (VMS) and communication reporting requirements. This submission requests clearance for a new collection as it pertains to Framework 16 to the Sea Scallop FMP reporting requirements that all scallop vessels including general category vessels fishing re-opened closed areas have a functional VMS.

Affected Public: Business or other for-profit organizations, individuals or households, and not-for-profit institutions.

Frequency: On occasion, monthly, daily, every 30 minutes.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent by December 19, 2004 to David Rostker, OMB Desk Officer, FAX number (202) 395-7285, or David_Rostker@omb.eop.gov.

Dated: December 9, 2004.
Gwellnar Banks,
Management Analyst, Office of the Chief Information Officer.

[FR Doc. 04-27561 Filed 12-15-04; 8:45 am]

BILLING CODE 3510-22-S